DEPARTMENT OF ENERGY

Federal Energy Regulatory Commission

[Docket No. RP04-382-001]

Texas Eastern Gas Transmission, LP; Notice of Supplemental Filing

July 15, 2004.

Take notice that on July 13, 2004, Texas Eastern Transmission, LP (Texas Eastern) tendered for filing as part of its FERC Gas Tariff, Seventh Revised Volume No. 1, First Revised Sheet No. 40A, to become effective August 1, 2004.

Texas Eastern states that the purpose of this filing is to supplement its June 30, 2004, filing in Docket No. RP04-382-000 (June 30 Filing), in which Texas Eastern submitted revised tariff sheets to reduce to zero its Gas Research Institute (GRI) surcharges, effective August 1, 2004, in compliance with the January 21, 1998, Stipulation and Agreement Concerning GRI Funding approved by the Commission in Gas Research Institute, 83 FERC ¶ 61,093, order on reh'g, 83 FERC ¶ 61,331 (1998). Texas Eastern further states that this filing supplements the June 30 Filing by including First Revised Sheet No. 40A, which was inadvertently omitted from the June 30 Filing, to be effective as of August 1, 2004, concurrently with the revised tariff sheets included in the June 30 Filing.

Texas Eastern states that copies of the filing have been served upon all affected customers of Texas Eastern and interested State commissions, as well as to parties on the Commission's official service list in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1633 Filed 7-21-04; 8:45 am]

BILLING CODE 6717-01-P